DEPARTMENT OF DEFENSE

GENERAL SERVICES ADMINISTRATION

NATIONAL AERONAUTICS AND SPACE ADMINISTRATION

48 CFR Parts 2, 22, and 52

[FAC 2005-29, Amendment-4; FAR Case 2007-013; Docket 2008-0001; Sequence 19]

RIN 9000-AK91

Federal Acquisition Regulation; FAR Case 2007-013, Employment Eligibility Verification

AGENCIES: Department of Defense (DoD), General Services Administration (GSA), and National Aeronautics and Space Administration (NASA).

ACTION: Amendment to final rule; delay of applicability date.

SUMMARY: The Department of Defense, General Services Administration, and National Aeronautics and Space Administration have agreed to delay the applicability date of FAR Case 2007-013, Employment Eligibility Verification, to September 8, 2009.

DATES: Applicability Date: The applicability date of FAC 2005-29, Amendment-3, published April 17, 2009, 74 FR 17793, is delayed until September 8, 2009.

Contracting officers shall not include the new clause at 52.222-54, Employment Eligibility Verification, in any solicitation or contract prior to the applicability date of September 8, 2009.

On or after September 8, 2009, contracting officers—

• Shall include the clause in solicitations, in accordance with the clause prescription at 22.1803 and FAR 1.108(d)(1); and

• Should modify, on a bilateral basis, existing indefinite-delivery/indefinite-quantity contracts in accordance with FAR 1.108(d)(3) to include the clause for future orders if the remaining period of performance extends beyond March 8, 2010, and the amount of work or number of orders expected under the remaining performance period is substantial.

FOR FURTHER INFORMATION CONTACT: The FAR Secretariat at (202) 501-4755 for further information pertaining to status or publication schedule. Please cite FAC 2005-29 (delay of applicability date).

SUPPLEMENTARY INFORMATION: This document extends to September 8, 2009, the applicability date of the E-Verify rule, in order to permit the new Administration an adequate opportunity to review the rule.

Federal Acquisition Circular

Federal Acquisition Circular (FAC) 2005-29, Amendment-4, is issued under the authority of the Secretary of Defense, the Administrator of General Services, and the Administrator for the National Aeronautics and Space Administration.

The Federal Acquisition Regulation (FAR) contained in FAC 2005-29 was effective January 19, 2009, and is applicable September 8, 2009.

Dated: May 29, 2009.
Amy G. Williams,
Acting Deputy Director, Defense Procurement and Acquisition Policy (Defense Acquisition Regulations System).

Dated: June 1, 2009.
Rodney P. Lantier,
Acting Senior Procurement Executive & Acting Deputy Chief Acquisition Officer, Office of the Chief Acquisition Officer, U.S. General Services Administration.

Dated: May 29, 2009.
William P. McNally,
Assistant Administrator for Procurement, National Aeronautics and Space Administration.

[FR Doc. E9-13124 Filed 6-4-09; 8:45 am]

BILLING CODE 6820-EP-S